INTERNATIONAL TRADE COMMISSION

[USITC SE-06-057]

Sunshine Act Meeting Notice

Agency Holding the Meeting: United States International Trade Commission.

Time and Date: November 15, 2006 at 11 a.m.

Place: Room 101, 500 E Street, SW., Washington, DC 20436, Telephone: (202) 205-2000.

Status: Open to the public.

Matters to be Considered: 1. Agenda for future meetings: none.

2. Minutes.

3. Ratification List.

4. Inv. Nos. 731-TA-471 and 472 (Second Review) (Silicon Metal from Brazil and China)—briefing and vote. (The Commission is currently scheduled to transmit its determination and Commissioners' opinions to the Secretary of Commerce on or before December 6, 2006.)

5. Outstanding action jackets: none.

In accordance with Commission policy, subject matter listed above, not disposed of at the scheduled meeting, may be carried over to the agenda of the following meeting.

Issued: November 6, 2006.
By order of the Commission.
Marilyn R. Abbott,
Secretary to the Commission.

[FR Doc. 06-9164 Filed 11-7-06; 10:57 am]

BILLING CODE 7020-02-P